DEPARTMENT OF DEFENSE

Department of the Army, Corps of Engineers

Withdrawal of the Notice of Intent To Prepare an Environmental Impact Statement for the Upper Susquehanna River Basin, New York, Comprehensive Flood Damage Reduction Feasibility Study

AGENCY: Department of the Army, U.S. Army Corps of Engineers, DoD.

ACTION: Notice of intent; withdrawal.

SUMMARY: The U.S. Army Corps of Engineers (USACE), Baltimore District, is notifying interested parties that it has withdrawn the notice of intent (NOI) to develop an EIS for the proposed Upper Susquehanna River Basin, New York, Comprehensive Flood Damage Reduction Feasibility Study.

DATES: The notice of intent to prepare an EIS published in the Federal Register on April 4, 2016 (81 FR 76936), is withdrawn as of September 10, 2020.

ADDRESSES: U.S. Army Corps of Engineers, Baltimore District, Planning Division, Civil Project Development Branch (CENAB-PL-CPD), 2 Hopkins Plaza, Baltimore, MD, 21201.

FOR FURTHER INFORMATION CONTACT: Questions regarding the withdrawal of this NOI should be addressed to Mr. Charles Leasure, telephone 410-962-5175; email address: charles.w.leasure@usace.army.mil.

SUPPLEMENTARY INFORMATION: The study was authorized by a Resolution of the House Committee on Transportation and Infrastructure, on 24 September 2008. The USACE undertook the study in partnership with the New York State Department of Environmental Conservation (NYSDEC). The study investigated structural and non-structural flood-risk management (FRM) strategies and projects to reduce flood risk. The study resulted in no viable flood risk management economically justified alternatives that could be implemented through federal policies. Based on these findings, USACE has concluded that construction of a federal FRM project by USACE is not recommended under this study authority. Several recommendations were included in a report to the sponsor for potential further consideration through other USACE programs.

Dated: September 4, 2020.
Karen J. Baker,
Programs Director, North Atlantic Division.

[FR Doc. 2020-19994 Filed 9-9-20; 8:45 am]

BILLING CODE 3720-58-P